DEPARTMENT OF TRANSPORTATION

National Highway Traffic Safety Administration

[Docket No. NHTSA-2013-0135; Notice 2]

General Motors, LLC, Denial of Petition for Decision of Inconsequential Noncompliance

AGENCY: National Highway Traffic Safety Administration (NHTSA), Department of Transportation (DOT).

ACTION: Denial of Petition.

SUMMARY: General Motors, LLC (GM) has determined that certain model year (MY) 2013-2014 Chevrolet Express, GMC Savana, Chevrolet Silverado HD and GMC Sierra HD compressed natural gas (CNG) multipurpose passenger vehicles (MPVs) and trucks manufactured between May 20, 2012, and September 25, 2013, do not comply with the lettering height requirement in paragraph S5.3 of Federal Motor Vehicle Safety Standard (FMVSS) FMVSS No. 303, Fuel System Integrity of Compressed Natural Gas Vehicles. GM has filed an appropriate report dated November 25, 2013, pursuant to 49 CFR part 573, Defect and Noncompliance Responsibility and Reports.

ADDRESSES: For further information on this decision, contact Mr. Ed Chan, Office of Vehicle Safety Compliance, at the National Highway Traffic Safety Administration (NHTSA) by telephone at (202) 493-0335.

SUPPLEMENTARY INFORMATION: I. GM's Petition: Pursuant to 49 U.S.C. 30118(d) and 30120(h) (see implementing rule at 49 CFR part 556), GM submitted a petition for an exemption from the notification and remedy requirements of 49 U.S.C. Chapter 301 on the basis that this noncompliance is inconsequential to motor vehicle safety.

The agency published a notice of receipt of the petition, with a 30-day public comment period, on March 11, 2014 in the Federal Register (79 FR 13735). No comments were received. To view the petition, and all supporting documents log onto the Federal Docket Management System (FDMS) Web site at: http://www.regulations.gov/. Then follow the online search instructions to locate docket number “NHTSA-2013-0135.”

II. Vehicles Involved: Affected are approximately 2,247 MY 2013-2014 Chevrolet Express, GMC Savana, Chevrolet Silverado HD and GMC Sierra HD compressed natural gas (CNG) MPVs and trucks manufactured between May 20, 2012, and September 25, 2013.

III. Noncompliance: GM explains that the noncompliance is an error on the vehicle CNG labels. Specifically, the lettering height on the labels is 2.5 mm, instead of the minimum 4.76 mm, as required by paragraph S5.3 of FMVSS No. 303.

IV. Rule Text: Paragraph S5.3 of FMVSS No. 303 requires:

S5.3 Each CNG vehicle shall be permanently labeled, near the vehicle refueling connection, with the information specified in S5.3.1 and S5.3.2 of this section. The information shall be visible to a person standing next to the vehicle during refueling, in English, and in letters and numbers that are not less than 4.76 mm (3/16 inch) high.

S5.3.1 The statement: “Service pressure __kPa (__psig).”

S5.3.2 The statement “See instructions on fuel container for inspection and service life.”

V. Summary of GM's Analyses: GM stated its belief that the subject noncompliance is inconsequential to motor vehicle safety for the following reasons:

A. The information on the subject CNG labels is correct and entirely legible.

Paragraph S5.4 of FMVSS No. 303 requires that the information required for the label also be included in the owner's manual using “. . . not less than 10 point type.” The 2.5 mm lettering height on the subject labels is 10 point type, i.e., the same lettering size as what is specified for the owner's manual content. The 10 point type that is legible for purposes of the owner's manual is also legible on the labels installed at the CNG filler port.

B. The subject CNG label is an “information” label, not a “warning” label.

The subject label is not a “warning” label and does not warn the user of a safety related risk or consequence. Even if the user does not read the label information due to the font size, the user will not miss information about a safety risk.

C. The label font size does not create a risk of misfueling.

Even if the user fails to read the information label due to the reduced font size, there would be no adverse safety consequence. The service pressure of the subject CNG tanks is 3,600 psi. There is no risk of over-pressuring these tanks since CNG filling stations are required to shutoff at 3,600 psi, per ANSI/IAS NGV 4.2-1999 CSA 12.52-M99(R09). Accordingly, there is no risk of a fuel leak.

Even if the shutoff function on a filling station were to malfunction, all CNG tanks on the affected vehicles are equipped with pressure-relief devices designed to deploy at 5,400 psi, which is below the burst pressure of the tank itself.

With regard to under-pressure (under-fill) potential, all affected vehicles are equipped with a CNG fuel gauge in the instrument cluster to inform the driver of the fuel level. While some drivers may estimate the driving range associated with a full fill, most drivers typically rely on fuel gauges, not anticipated range, to determine when to refuel. Some CNG filling stations, primarily in Canada, are designed to shutoff at 3,000 psi, which is below the 3,600 psi service pressure of the affected CNG tanks. However, regardless of whether the CNG tanks on the affected vehicles start out full (3,600 psi) or 83% full (3,000 psi), the driver has ample opportunity to monitor the fuel gauge and refuel prior to the CNG being depleted. Additionally, the owner manual instructs that “the fuel gauge has been calibrated to display full at approximately 24,800 kPa (3,600 psi) . . .”

Finally, there is no risk that a customer would attempt to fuel the CNG tanks from a conventional gasoline pump. The fueling nozzle and filling port for CNG are completely distinct from the corresponding nozzle and port used for gasoline, and the distinctions are obvious. In the extraordinary event that a user attempted to connect a conventional gasoline nozzle to the CNG fueling valve, it would be immediately apparent that the mismatched gasoline nozzle does not attach to or work with the CNG valve. GM also asserts that owners and operators of CNG vehicles (the large majority being fleet purchasers) are well aware that their vehicles use a non-conventional fuel, and are attuned to the unique characteristics associated with CNG use, such as service pressure, and tank inspection and replacement provisions. These aspects of the CNG fuel system are likely known to owners when or even before they purchase the CNG vehicle, and in any event are easily obtained for the subject vehicles from the labels at the fueling port, from the vehicle owner's manuals, and/or from the labels on the CNG tanks themselves. As mentioned above, the information is provided in the owner's manual.

In addition, GM stated its belief that NHTSA has previously granted petitions for labeling related inconsequential noncompliances that GM believes can be applied to a decision on its petition.

GM informed NHTSA that it is not aware of any crashes, injuries or customer complaints associated with this condition.

GM also informed NHTSA that it has corrected the noncompliance for all future production.

In summation, GM believes that the described noncompliance of the subject vehicles is inconsequential to motor vehicle safety, and that its petition, to exempt from providing recall notification of noncompliance as required by 49 U.S.C. 30118 and remedying the recall noncompliance as required by 49 U.S.C. 30120 should be granted.

NHTSA Decision

NHTSA Analysis: NHTSA added the subject vehicle label requirements to FMVSS No. 303 to aid in assuring that CNG containers are not overfilled.¹ The overfilling of a CNG tank can affect the integrity of the storage tank as well as other system components. Pressurized CNG fuel dispensing and storage methods are significantly different from those for more traditional diesel and gasoline fuels which are stored as liquid at atmospheric pressure. Significant stored mechanical energy exists within a pressurized CNG tank that is not present in traditional liquid fuel (fuel with a boiling point above 0 °C) storage tanks. Should a CNG tank be weakened by repeated overfilling, the stored mechanical energy could be explosively released.

¹ See 59 FR 65307 and 60 FR 57944.

The lettering height required for the CNG vehicle label is greater than that required for similar information in the owner's manual and the alternative one page document (4.76 mm versus 2.5 mm).² NHTSA believes that the larger lettering size is important for the vehicle label in order to make it easier to read for a wide range of conditions, both environmental and operator related. The label is required to be located near the vehicle refueling connection in addition to the owner's manual for the following reasons:

² 49 CFR 571.303 S5.2

1. Not all vehicle operators will have read or have ready access to the vehicle's owner's manual, especially when vehicles have been acquired on the secondary market.

2. Immediately prior to or during vehicle refueling is the most opportune time to provide a person refueling the vehicle with information that may reduce accidental overfilling, and the vehicle refueling connection label is more likely to be read than the owner's manual during vehicle refueling.

3. Vehicle refueling connection label readability and conspicuity are important to help to ensure that the information is actually read and understood by the person refueling the vehicle, the person ultimately responsible for the safe refueling of the vehicle.

NHTSA is currently investigating several incidents where over-pressurization of CNG tanks mounted on vehicles other than the subject vehicles may have contributed to explosions. A lack of understanding related to the rated service pressure and actual working pressure of the fuel containers are factors that NHTSA believes may have contributed to these explosions. This further reinforces NHTSA's belief that label information at the vehicle's filling location must be easy to read.

NHTSA has previously granted inconsequential noncompliance petitions for labeling issues including discrepancies in lettering height, missing information, incorrect information, and misplaced or obscured information. We believe this label is different because of the frequency of filling the fuel tank. Filling the fuel tank can occur on a daily basis whereas labels for other purposes, e.g., a tire label, are likely to be accessed by operators much less frequently. It is important that the operator be able to read the label to verify an overfill situation does not occur. We also believe the routine nature of fuel filling makes it less likely the operator would check the owner's manual, assuming the owner's manual is available, if the fueling label cannot be read. The labeling provides important safety information that is intended to prevent a potential explosion. Therefore, NHTSA believes that the required size of the information on the subject nonconforming CNG label is consequential to motor vehicle safety.

NHTSA Decision: In consideration of the foregoing, NHTSA has decided that GM has not met its burden of persuasion that its FMVSS No. 303 noncompliance is inconsequential. Accordingly, GM's petition is hereby denied and GM is obligated to provide notification of, and a remedy for, that noncompliance under 49 U.S.C. 30118 and 30120.

Authority: (49 U.S.C. 30118, 30120: delegations of authority at 49 CFR 1.95 and 501.8)

Frank S. Borris,
Acting Associate Administrator for Enforcement.

[FR Doc. 2015-26400 Filed 10-16-15; 8:45 am]

BILLING CODE 4910-59-P